NUCLEAR REGULATORY COMMISSION

Control Room Habitability

AGENCY: Nuclear Regulatory Commission.

ACTION: Notice of issuance.

SUMMARY: The Nuclear Regulatory Commission (NRC) has issued Generic Letter (GL) 2003-01 to all holders of operating licenses for pressurized-water reactors and boiling-water reactors, except those who have permanently ceased operations and have certified that fuel has been permanently removed from the reactor vessel and more than 1 year has elapsed since fuel was irradiated in the reactor vessel. The generic letter was issued to (1) alert licensees to findings at U.S. power reactor facilities suggesting that the control room licensing and design bases, and applicable regulatory requirements may not be met, and that existing technical specification surveillance requirements (SRs) may not be adequate, (2) emphasize the importance of reliable, comprehensive surveillance testing to verify control room habitability, (3) request licensees to submit information that demonstrates that the control room at each of their respective facilities complies with the current licensing and design bases, and applicable regulatory requirements, and that suitable design, maintenance and testing control measures are in place for maintaining this compliance, and (4) determine, based on the information received, if additional regulatory action is required.

DATES: The generic letter was issued on June 12, 2003.

ADDRESSES: Not applicable.

FOR FURTHER INFORMATION CONTACT: Mark Blumberg, at 301-415-1083.

SUPPLEMENTARY INFORMATION: Generic Letter 2003-01 may be examined and/or copied for a fee at the NRC's Public Document Room, located at One White Flint North, 11555 Rockville Pike (first floor), Rockville, Maryland, and is accessible electronically from the Agencywide Documents Access and Management Systems (ADAMS) Public Electronic Reading Room on the Internet at the NRC Web site, http://www.nrc.gov/reading-rm/adams.html. The ADAMS Accession No. for the generic letter is ML031620248.

If you do not have access to ADAMS or if there are problems in accessing documents located in ADAMS, contact the NRC Public Document Room (PDR) Reference staff at 301-415-4737 or 1-800-397-4209, or by e-mail to pdr@nrc.gov.

Dated at Rockville, Maryland, this 12th day of June 2003.
For the Nuclear Regulatory Commission.
William D. Beckner,
Program Director, Operating Reactor Improvements Program, Division of Regulatory Improvement Programs, Office of Nuclear Reactor Regulation.

[FR Doc. 03-15508 Filed 6-18-03; 8:45 am]

BILLING CODE 7590-01-P